DEPARTMENT OF HOMELAND SECURITY

Federal Emergency Management Agency

[Docket ID: FEMA-2022-0025; OMB No. 1660-0140]

Agency Information Collection Activities: Proposed Collection; Comment Request; Integrated Public Alert and Warning Systems (IPAWS) Memorandum of Agreement Applications

AGENCY: Federal Emergency Management Agency, Department of Homeland Security.

ACTION: 60-Day notice of revision and request for comments.

SUMMARY: The Federal Emergency Management Agency (FEMA), as part of its continuing effort to reduce paperwork and respondent burden, invites the general public to take this opportunity to comment on an extension, with change, of a currently approved information collection. In accordance with the Paperwork Reduction Act of 1995, this notice seeks comments concerning the Integrated Public Alert and Warning Systems (IPAWS) Memorandum of Agreement Applications.

DATES: Comments must be submitted on or before October 25, 2022.

ADDRESSES: To avoid duplicate submissions to the docket, submit comments at www.regulations.gov under Docket ID FEMA-2022-0025. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Wade Witmer, Deputy for the Integrated Public Alert and Warning System (IPAWS) Program, FEMA, National Continuity Programs, (202) 646-2523, wade.witmer@fema.dhs.gov. You may contact the Information Management Division for copies of the proposed collection of information at email address: FEMA-Information-Collections-Management@fema.dhs.gov.

SUPPLEMENTARY INFORMATION: Public Law 114-143, the Integrated Public Alert and Warning System Modernization Act of 2015, and Presidential Executive Order 13407, Public Alert and Warning System, establishes the policy for an effective, reliable, integrated, flexible, and comprehensive system to alert and warn the American people in situations of war, terrorist attack, natural disaster, or other hazards to public safety and wellbeing. The Integrated Public Alert and Warning System (IPAWS) is the Department of Homeland Security's response to the Executive Order. The Stafford Act (42 U.S.C. 5121, et seq., Pub. L. 93-288, as amended) requires that FEMA make IPAWS available to Federal, State, and local agencies for the purpose of providing warning to governmental authorities and the civilian population in areas endangered by disasters. The information collected is used by FEMA to create a Memorandum of Agreement that regulates the management, operations, and security of the information technology system connection between a Federal, State, Tribal, territorial, or local alerting authority and IPAWS-OPEN (Open Platform for Emergency Notifications).

The IPAWS Public Alerting Authorization application captures information detailing which types of events the local jurisdiction wants to be configured to use IPAWS for and which primary dissemination channels should be available. For example, if a community wants to send a Civil Emergency message (CEM) to broadcast across radio, television, and cable, they will request “CEM” for “EAS”—the Emergency Alert System. These requested permissions are reviewed by either the State or by Tribal authorities for compliance with established overall alerting policies and plans. IPAWS uses the approved information to configure permissions in IPAWS-OPEN.

Collection of Information

Title: Integrated Public Alert and Warning Systems (IPAWS) Memorandum of Agreement Applications.

Type of Information Collection: Extension, with change, of a currently approved information collection.

OMB Number: 1660-0140.

FEMA Forms: FEMA Form FF-302-FY-22-102 (formerly 007-0-25), IPAWS Memorandum of Agreement (MOA) Application; FEMA Form FF-302-FY-22-103 (formerly 007-0-26a/b), IPAWS Public Alerting Authority (PAA) Application.

Abstract: A Federal, State, Tribal, territorial, or local alerting authority that applies for authorization to use IPAWS is designated as a Collaborative Operating Group (COG) by the IPAWS Program Management Office (PMO). Access to IPAWS is free; however, to send a message using IPAWS, an organization must procure its own IPAWS compatible software. To become a COG, a Memorandum of Agreement governing system security must be executed between the sponsoring organization and FEMA.

Affected Public: State, Tribal, or local Government.

Estimated Number of Respondents: 841.

Estimated Number of Responses: 841.

Estimated Total Annual Burden Hours: 526.

Estimated Total Annual Respondent Cost: $34,527.

Estimated Respondents' Operation and Maintenance Costs: $0.

Estimated Respondents' Capital and Start-Up Costs: $0.

Estimated Total Annual Cost to the Federal Government: $123,164.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-18458 Filed 8-25-22; 8:45 am]

BILLING CODE 9111-AB-P